DEPARTMENT OF COMMERCE

Foreign-Trade Zones Board

[B-07-2014]

Foreign-Trade Zone (FTZ) 269—Athens, Texas; Notification of Proposed Production Activity; Schneider Electric USA (Electrical Component Assembly); Athens, Texas

Schneider Electric USA submitted a notification of proposed production activity to the FTZ Board for its facility in Athens, Texas within FTZ 269. The notification conforming to the requirements of the regulations of the FTZ Board (15 CFR 400.22) was received on January 15, 2014.

The Schneider Electric USA (Schneider Electric) facility is located within Site 1 of FTZ 269. The facility is used for the assembly and kitting of electrical components and finished products used to control lighting and HVAC equipment. Pursuant to 15 CFR 400.14(b), FTZ activity would be limited to the specific foreign-status materials and components and specific finished products described in the submitted notification (as described below) and subsequently authorized by the FTZ Board.

Production under FTZ procedures could exempt Schneider Electric from customs duty payments on the foreign status components used in export production. On its domestic sales, Schneider Electric would be able to choose the duty rates during customs entry procedures that apply to: Power supplies; bus couplers; dimmers; bus coupler boxes and box enclosures; button key inputs; occupancy sensors; dual and single 120-volt bus couplers; dual and single 277-volt bus couplers; 120-volt and 277-volt device routers; power supplies; power supply controllers; button labels; and, switch covers (duty rate ranges from free to 5.3%) for the foreign status inputs noted below. Customs duties also could possibly be deferred or reduced on foreign status production equipment.

The components and materials sourced from abroad include: touch screen wall plates; filler plates; nail brackets; plasterboard brackets; wall plates; touch screen wall boxes; bar code readers; ethernet interfaces; network bridges; PC interfaces; USB PC interfaces; power supplies; remote control power supplies; C-BUS controllers; telephone interfaces; RF remotes; RF USB PB interfaces; wireless gateways; in-ceiling Kevlar speakers; in-wall Kevlar speakers; AMP external power supplies; audio amplifiers; audio matrix switchers; audio distribution units; in-ceiling polypropylene speakers; in-wall polypropylene speakers; outdoor speakers; license keys for networks; hand-held infrared remotes; four-channel relays with and without remotes; C-BUS-wired demo cases; desktop targets; dual and single IR leads; IR flat targets; keypads; occupancy sensor sample cases; pascal automation controllers; faceplates; dimmers and wireless dimmers; channel relays without power supplies; two-channel bus couplers; two-channel gateways; two-channel C-BUS infrared transmitters; four-channel 0-10 volt outputs; four-channel auxiliary input modules; four-channel changeover relays with and without power supplies; four-zone thermostats with relays; single-zone thermostats; low-voltage relays; bus coupler demo cases; dimmer training boards; hand-held universal remote controls; infrared code learning units; touch screens; network training boards; relay training boards; controller power supplies; programmable and single-zone thermostats; wireless training boards; bus coupler enclosures, boxes and covers; rocker switch assemblies; demo cases; termination boxes for dimmers; indoor light-level sensors; occupancy sensors; USB programming cables; network analyzers; and, C-BUS remote temperature sensors (duty rate ranges from free to 5.3%).

Public comment is invited from interested parties. Submissions shall be addressed to the Board's Executive Secretary at the address below. The closing period for their receipt is March 17, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Christopher Kemp at Christopher.Kemp@trade.gov or (202) 482-0862.

Dated: January 28, 2014.
Andrew McGilvray,
Executive Secretary.

[FR Doc. 2014-02232 Filed 1-31-14; 8:45 am]

BILLING CODE 3510-DS-P